OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between December 1, 2010, and December 31, 2010. These notices are published monthly in the Federal Register at http://www.gpoaccess.gov/fr/. A consolidated listing of all authorities as of June 30 is also published each year. The following Schedules are not codified in the Code of Federal Regulations. These are agency-specific exceptions.

Schedule A

Schedule A authorities to report during December 2010:

Section 3105 Department of the Treasury.

(a) Office of the Secretary.

(4) Up to 35 temporary or time-limited positions at the GS-9 through 15 grade levels to support the organization, design and stand-up activities for the Consumer Financial Protection Bureau, as mandated by Public Law 111-203. This authority may be used for the following series: GS-201, GS-501, GS-560, GS-1035, GS-1102, GS-1150, GS-1720, GS-1801, and GS-2210. No new appointments may be made under this authority after July 21, 2011, the designated transfer date of the CFPB.

Schedule B

No Schedule B authorities to report during December 2010.

Schedule C

The following Schedule C appointments were approved during December 2010.

Agency name | Organization name | Position title | Authorization No. | Effective date
DEPARTMENT OF AGRICULTURE | Office of the Assistant Secretary for Civil Rights | Special Assistant | DA110011 | 12/01/2010
| Office of Communications | Deputy Director, Operations | DA110016 | 12/01/2010
| Office of the General Counsel | Senior Counselor | DA110009 | 12/10/2010
| Office of the Under Secretary for Rural Development | Chief of Staff | DA110018 | 12/29/2010
DEPARTMENT OF COMMERCE | Office of the Deputy Secretary | Special Assistant | DC110021 | 12/14/2010
COMMISSION ON CIVIL RIGHTS | Staff Members | Special Assistant | CC110001 | 12/14/2010
COMMODITY FUTURES TRADING COMMISSION | Office of the Chairperson | Administrative Assistant | CT110001 | 12/29/2010
COUNCIL ON ENVIRONMENTAL QUALITY | Council on Environmental Quality | Special Assistant | EQ110002 | 12/13/2010
DEPARTMENT OF DEFENSE | Office of the Under Secretary of Defense (Policy) | Senior Communications Advisor for Under Secretary of Defense | DD110019 | 12/03/2010
| Office of Assistant Secretary of Defense (Public Affairs) | Strategic Planner | DD110026 | 12/13/2010
| Washington Headquarters Services | Defense Fellow | DD110030 | 12/22/2010
| Washington Headquarters Services | Defense Fellow | DD110027 | 12/13/2010
DEPARTMENT OF THE NAVY | Office of the Secretary | Special Assistant | DN110007 | 12/21/2010
| Office of the Secretary | Special Assistant | DN110008 | 12/21/2010
DEPARTMENT OF EDUCATION | Office of the Under Secretary | Confidential Assistant | DB110008 | 12/10/2010
| Office of the Secretary | Confidential Assistant | DB110011 | 12/10/2010
| Office of the Under Secretary | Director of the Center for Faith-Based and Neighborhood Partnerships | DB110012 | 12/10/2010
DEPARTMENT OF ENERGY | Office of Public Affairs | Chief Speechwriter | DE110018 | 12/22/2010
EXPORT-IMPORT BANK | Board of Directors | Executive Secretary | EB110004 | 12/06/2010
| Office of the Executive Vice President | Senior Vice President of Congressional Affairs | EB110005 | 12/14/2010
GENERAL SERVICES ADMINISTRATION | New England Region | Regional Administrator | GS110005 | 12/23/2010
| Office of the Administrator | Senior Advisor of the Chief of Staff | GS110011 | 12/30/2010
| Office of Communications and Marketing | Associate Administrator for Communications and Marketing | GS110010 | 12/29/2010
DEPARTMENT OF HEALTH AND HUMAN SERVICES | Office of the Assistant Secretary for Legislation | Special Assistant | DH110014 | 12/10/2010
| Centers for Medicare and Medicaid Services | Confidential Assistant, Centers for Medicare and Medicaid Services | DH110013 | 12/10/2010
DEPARTMENT OF HOMELAND SECURITY | Office of the Executive Secretary for Operations and Administration | Secretary Briefing Book Coordinator | DM110023 | 12/13/2010
| Office of the Assistant Secretary for Public Affairs | Press Assistant | DM110026 | 12/13/2010
| Office of the General Counsel | Special Assistant | DM110028 | 12/13/2010
| Immediate Office of the Deputy Secretary | Special Assistant | DM110030 | 12/29/2010
| Department of Homeland Security | Deputy Assistant Secretary for Strategic Communications | DM110031 | 12/22/2010
DEPARTMENT OF HOUSING AND URBAN DEVELOPMENT | Office of the Chief Human Capital Officer | Staff Assistant | DU110010 | 12/10/2010
| Office of Sustainable Housing and Communities | Senior Advisor | DU110004 | 12/10/2010
| Office of Policy Development and Research | Special Assistant | DU110011 | 12/21/2010
DEPARTMENT OF THE INTERIOR | Office of the Deputy Secretary | Special Assistant | DI110013 | 12/22/2010
DEPARTMENT OF JUSTICE | Office of Public Affairs | Press Assistant | DJ110023 | 12/29/2010
| Office of the Deputy Attorney General | Counsel | DJ110025 | 12/30/2010
| Office of the Deputy Attorney General | Senior Counsel | DJ100172 | 12/21/2010
| Office of Legal Policy | Counsel | DJ110027 | 12/30/2010
DEPARTMENT OF LABOR | Office of Congressional and Intergovernmental Affairs | Senior Legislative Officer | DL110008 | 12/17/2010
SMALL BUSINESS ADMINISTRATION | Office of Communications and Public Liaison | Senior Communications Assistant | SB110005 | 12/08/2010
| Office of Field Operations | Regional Administrator, Region III, Philadelphia, PA | SB110006 | 12/10/2010
DEPARTMENT OF STATE | Foreign Policy Planning Staff | Speechwriter | DS110013 | 12/03/2010
DEPARTMENT OF THE TREASURY | Secretary of the Treasury | Special Assistant | DY110023 | 12/20/2010

Authority: 5 U.S.C. 3301 and 3302; E.O. 10577, 3 CFR 1954-1958 Comp., p. 218.

U.S. Office of Personnel Management.
John Berry,
Director.

[FR Doc. 2011-3794 Filed 2-18-11; 8:45 am]

BILLING CODE 6325-39-P